DEPARTMENT OF THE INTERIOR

National Park Service

National Register of Historic Places; Notification of Pending Nominations

Nominations for the following properties being considered for listing in the National Register were received by the National Park Service before June 15, 2002. Pursuant to section 60.13 of 36 CFR Part 60 written comments concerning the significance of these properties under the National Register criteria for evaluation may be forwarded by United States Postal Service, to the National Register Historic Places, National Park Service, 1849 C St. NW, NC400, Washington, DC 20240; by all other carriers, National Register of Historic Places, National Park Service, 800 N. Capitol St., NW., Suite 400, Washington DC 20002; or by fax, 202-343-1836. Written or faxed comments should be submitted by July 9, 2002.

Carol D. Shull,
Keeper of the National Register of Historic Places.

ARIZONA

Maricopa County

915 E. Pierce Street/Grand Pyramid House, 915 E. Pierce St., Phoenix, 02000800

CALIFORNIA

Orange County

Congdon, Joel R., House, 32701 Alipaz St., San Juan Capistrano, 02000801

IDAHO

Bonneville County

Holy Rosary Church, 288 E. Ninth St., Idaho Falls, 02000802

LOUISIANA

Orleans Parish

Washington, Booker T., High School and Auditorium, 1201 S. Roman, New Orleans, 02000803

MISSOURI

Cole County

Missouri State Capitol Historic District (Boundary Increase), 200 Blk. of W. McCarty St. and 406-408 Washington St., Jefferson City, 02000804

St. Louis Independent City

Stix, Baer and Fuller Dry Goods Company's “Grand Leader” Relay Station, 3712-3748 Laclede Ave., 3717 Forest Park Blvd., St. Louis (Independent City), 02000805

NEW JERSEY

Somerset County

West End Hose Company Number 3, 15 Doughty Av., Somerville, 02000808

PENNSYLVANIA

Blair County

Broad Avenue Historic District, Roughly along Broad Ave., from 23rd to 31st Sts., Altoona, 02000806

Llyswen Historic District, Coleridge, Logan, Aldrich bounded by Mill Run and Ward, Altoona, 02000807

TENNESSEE

Knox County

Racheff, Ivan, House, 1943 Tennessee Ave., Knoxville, 02000810

Obion County

Houser House, 2221 Old Troy Rd., Union City, 02000809

Tipton County

Charleston United Methodist Church and Cemetery, Covington-Stanton Rd., Charleston, 02000811

Washington County

Washington College Historic District, 116 Doak Ln., Washington College, 02000812

WISCONSIN

Dane County

McCarthy, Timothy C. and Katherine, House, 848 Jenifer St., Madison, 02000813

A request for REMOVAL has been made for the following resources:

NEVADA

Washoe County

Wingfield, George, House 219 Court St. Reno, 82003260

[FR Doc. 02-15890 Filed 6-21-02; 8:45 am]

BILLING CODE 4310-70-P